DEPARTMENT OF EDUCATION

[Docket No. ED-2020-SCC-0026]

Agency Information Collection Activities; Comment Request; Vocational Rehabilitation Financial Report (RSA-2)

AGENCY: Office of Special Education and Rehabilitative Services (OSERS), Department of Education (ED).

ACTION: Notice.

SUMMARY: In accordance with the Paperwork Reduction Act of 1995, ED is proposing a revision of an existing information collection.

DATES: Interested persons are invited to submit comments on or before April 13, 2020.

ADDRESSES: To access and review all the documents related to the information collection listed in this notice, please use http://www.regulations.gov by searching the Docket ID number ED-2020-SCC-0026. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W-208D, Washington, DC 20202-4537.

FOR FURTHER INFORMATION CONTACT: For specific questions related to collection activities, please contact David Steele, 202-245-6520.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Vocational Rehabilitation Financial Report (RSA-2).

OMB Control Number: 1820-0017.

Type of Review: A revision of an existing information collection.

Respondents/Affected Public: State, Local, and Tribal Governments.

Total Estimated Number of Annual Responses: 312.

Total Estimated Number of Annual Burden Hours: 10,193.

Abstract: The Vocational Rehabilitation Financial Report (RSA-2) collects data on the State Vocational Rehabilitation Services (VR) program activities for agencies funded under the Rehabilitation Act of 1973, as amended (Rehabilitation Act). The RSA-2 captures the Federal and non-Federal administrative expenditures for the VR program; Services to Groups Federal and non-Federal expenditures; American Job Center Infrastructure Federal and non-Federal expenditures; receipt, use and/or transfer of VR program income; financial data necessary to ensure Federal award requirements are met (e.g., match, maintenance of effort, and pre-employment transition services reservation of funds); and obligations and disbursements that occurred during the period of the award.

The basic data comprising the RSA-2 are mandated by the Rehabilitation Act as specified in Section 101(a)(10)(D). Section 13 of the Rehabilitation Act requires the Commissioner of RSA to collect and report information to the Congress and the President through an Annual Report.

The substantive revisions to the RSA-2 form were necessary to: Add data elements in order to implement amendments to the Rehabilitation Act of 1973 (Rehabilitation Act) made by title IV of the Workforce Innovation and Opportunity Act (WIOA) (e.g., those related to services to groups and pre-employment transition services); add data elements necessitated by the VR program's role as a core program in the one stop service delivery system and the jointly administered requirements of title I of WIOA (e.g., those related to one-stop center infrastructure costs and reporting periods); incorporate VR program-specific financial data elements, previously reported on the SF-425, necessary to ensure VR agencies comply with program requirements (e.g., match and maintenance of effort); and remove data elements that are duplicative of data collected in the RSA-911 Case Service Report. As a result of the revisions to this form, VR agencies will no longer be required to submit SF-425 reports for the VR program beginning with the FFY 2020 grant awards. Difference noted above does not include the reduced burden resulting from VR agencies no longer having to submit these forms.

Dated: February 7, 2020.
Kate Mullan,
PRA Coordinator, Strategic Collections and Clearance, Governance and Strategy Division, Office of Chief Data Officer.

[FR Doc. 2020-02783 Filed 2-11-20; 8:45 am]

BILLING CODE 4000-01-P